DEPARTMENT OF HOMELAND SECURITY

Transportation Security Administration

Intent To Request Revision From OMB of One Current Public Collection of Information: Transportation Security Officer (TSO) Medical Questionnaire

AGENCY: Transportation Security Administration (TSA), DHS.

ACTION: Notice.

SUMMARY: TSA invites public comment on one currently approved information collection requirement abstracted below that we will submit to the Office of Management and Budget (OMB) for revision in compliance with the Paperwork Reduction Act.

DATES: Send your comments by June 19, 2006.

ADDRESSES: Katrina Wawer, Attorney-Advisor, Office of Chief Counsel, TSA-2, Transportation Security Administration, 601 South 12th Street, Arlington, VA 22202-4220.

FOR FURTHER INFORMATION CONTACT: Katrina Wawer at the above address or by telephone (571) 227-1995 or facsimile (571) 227-1381.

SUPPLEMENTARY INFORMATION:

Comments Invited

In accordance with the Paperwork Reduction Act of 1995, (44 U.S.C. 3501 et seq.), an agency may not conduct or sponsor, and a person is not required to respond to, a collection of information unless it displays a valid OMB control number. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

1652-0032; Transportation Security Officer (formerly Screener) (TSO) Medical Questionnaire. Because Transportation Security Screeners were converted to Transportation Security Officers (TSOs) on February 5, 2005, TSA is revising the title of this collection accordingly. TSA also is making other revisions to the form to ensure the proper information is collected in the most appropriate manner. With approval from OMB, TSA currently collects information via a TSO medical questionnaire, which assists the agency in ensuring that candidates under employment consideration for TSO positions meet the qualification standards to successfully perform the functions of the position. TSA uses this information to evaluate a candidate's physical and medical qualifications, including visual and aural acuity, and physical coordination and motor skills.

TSA now seeks approval to revise its existing control number application to include additional medical forms which TSA candidates will bring with them to follow-up medical evaluations (should they be necessary) and which must be completed by the candidate's health care provider(s) and returned to TSA by facsimile. These forms are required in circumstances where additional medical information is needed to make a determination regarding the candidate's qualifications for the TSO job. For example, due to the physically demanding nature of the TSO job, it is important to ensure that individuals who have prior back injuries are evaluated thoroughly to ensure they can perform the TSO job safely and efficiently without excessive risk of accident or injury to themselves or others. This additional information is provided by the candidate's health care provider of choice and includes historical and other information needed to make a determination.

A TSA contractor will facilitate receipt and processing of these forms. The variety of forms pertains to particular body systems and medical conditions, including cardiac, orthopedic, endocrine, vitals, etc. The form or forms a candidate's health care provider will complete depends on the condition(s) revealed during a candidate's initial medical evaluation. Thus, while all candidates reaching the medical evaluation portion of the selection process will be asked to complete a medical questionnaire, only candidates for whom additional information is needed will be asked to seek further evaluation from their health care provider and submit additional information through the further evaluation forms. Historical data indicate that approximately 30 percent of candidates reaching the medical evaluation will be required to complete an additional form(s). TSA estimates that the potential annual respondent population for this collection will be 22,800 health care providers and candidates, which includes 11,400 candidates and 11,400 health care providers, nationwide. TSA estimates the total annual hour burden, in addition to the annual burden as a result of the TSO medical questionnaire, to be 6346 hours.

Issued in Arlington, Virginia, on April 12, 2006.
Lisa S. Dean,
Privacy Officer.

[FR Doc. E6-5840 Filed 4-18-06; 8:45 am]

BILLING CODE 4910-62-P